DEPARTMENT OF COMMERCE

National Oceanic and Atmospheric Administration

[RTID 0648-XB715]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Advisory Panel and Mackerel, Squid, and Butterfish Advisory Panel will hold a joint public webinar meeting.

DATES: The meeting will be held on Tuesday, February 15, 2022, from 2:30 p.m. until 4 p.m.

ADDRESSES: The meeting will be held via webinar. Connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Summer Flounder, Scup, and Black Sea Bass Advisory Panel will meet via webinar jointly with the Mackerel, Squid, and Butterfish Advisory Panel. The purpose of this meeting is to review and provide feedback on sea turtle trawl bycatch issues and the ongoing research on mitigation measures in the Greater Atlantic Region. Fisheries bycatch is a primary threat to endangered and threatened sea turtles and occurs at high levels in trawl fisheries such as croaker, longfin squid, and summer flounder. NMFS and other partners have been investigating mitigation measures such as gear modifications called Turtle Excluder Devices (TEDs) or limited tow durations to reduce mortality of incidentally bycaught sea turtles.

Special Accommodations

The meeting is physically accessible to people with disabilities. Requests for sign language interpretation or other auxiliary aid should be directed to Shelley Spedden, (302) 526-5251, at least 5 days prior to the meeting date.

Authority: 16 U.S.C. 1801 et seq.

Dated: January 7, 2022.
Tracey L. Thompson,
Acting Deputy Director, Office of Sustainable Fisheries, National Marine Fisheries Service.

[FR Doc. 2022-00424 Filed 1-11-22; 8:45 am]

BILLING CODE 3510-22-P